DEPARTMENT OF COMMERCE

National Oceanic and Atmospheric Administration

[I.D. 110800D]

Fisheries of the Exclusive Economic Zone Off Alaska; Recordkeeping and Reporting Requirements; Public Workshops

AGENCY: National Marine Fisheries Service (NMFS), National Oceanic and Atmospheric Administration (NOAA), Commerce.

ACTION: Notice of workshops.

SUMMARY: NMFS, Alaska Region, and the U.S. Coast Guard North Pacific Regional Fisheries Training Center will present workshops on the 2001 recordkeeping and reporting requirements for the Alaska groundfish fisheries.

DATES: See SUPPLEMENTARY INFORMATION under the heading, “Meeting Dates and Addresses,” for dates the workshops will be held.

ADDRESSES: See SUPPLEMENTARY INFORMATION under the heading, “Meeting Dates and Addresses,” for meeting addresses.

FOR FURTHER INFORMATION CONTACT: Patsy A. Bearden, 907-586-7008.

SUPPLEMENTARY INFORMATION: The workshops will include discussion of proposed 2001 changes to the recordkeeping and reporting requirements for Alaska groundfish fisheries along with instructions for completion and submittal of the required forms and logsheets. Suggestions and feedback on existing procedures are welcome.

Meeting Dates and Addresses

1. November 17, 2000, 10 a.m. to 12 noon Pacific standard time—FISH EXPO, Washington State Trade and Convention Center, Room 310, Seattle, WA.

2. December 4, 2000, 9 a.m to 11 a.m. for vessels, 12:30 p.m. to 2:30 p.m. for shoreside processors, Alaska local time—Anchorage Federal Building, Room 154, 222 West Seventh Avenue, Anchorage, AK.

3. January 4, 2001, 9 a.m. to 11 a.m. for vessels, 12:30 p.m. to 2:30 p.m. for shoreside processors, Pacific standard time—NOAA Western Regional Center, 7600 Sandpoint Way, N.E., Building 9, Room A/B, Seattle, WA.

4. January 16, 2001, 9 a.m. to 11 a.m. for vessels, 12:30 p.m. to 2:30 p.m. for shoreside processors, Alaska local time—U.S. Coast Guard Base, North Pacific Regional Fisheries Training Center, Kodiak, AK.

5. January 18, 2001, 9 a.m. to 11 a.m. for vessels, Alaska local time—Unalaska City Hall, Council Chambers, Unalaska, AK.

6. January 19, 2001, 9 a.m. to 11 a.m. for shoreside processors, Alaska local time—Unalaska City Hall, Council Chambers, Unalaska, AK.

Special Accommodations

These workshops will be physically accessible to people with disabilities. Requests for sign language interpretation or other auxiliary aids should be directed to Patsy Bearden (see FOR FURTHER INFORMATION CONTACT) at least 7 working days prior to the meeting date.

Dated: November 9, 2000.
Bruce C. Morehead,
Acting Director, Office of Sustainable Fisheries, National Marine Fisheries Service.

[FR Doc. 00-29414 Filed 11-15-00; 8:45 am]

BILLING CODE: 3510-22 -S